DEPARTMENT OF EDUCATION

Free Application for Federal Student Aid (FAFSA®) Information To Be Verified for the 2025-2026 Award Year

AGENCY: Office of Postsecondary Education, Department of Education.

ACTION: Notice.

SUMMARY: For each award year, the Secretary publishes in the Federal Register a notice announcing the FAFSA information that an institution and an applicant may be required to verify, as well as the acceptable documentation for verifying FAFSA information. This updated notice supersedes the Free Application for Federal Student Aid (FAFSA®) Information To Be Verified for the 2025-2026 Award year (89 FR 71893) published on September 4, 2024. This notice is for the 2025-2026 award year; Assistance Listing Numbers 84.007, 84.033, 84.063, and 84.268. For more information on the updates please see the Verification Update section.

FOR FURTHER INFORMATION CONTACT: Vanessa Gomez. Telephone: (202) 453-6708. Email: Vanessa.Gomez@ed.gov.

If you are deaf, hard of hearing, or have a speech disability and wish to access telecommunications relay services, please dial 7-1-1.

SUPPLEMENTARY INFORMATION:

Verification Update: As part of the Department's efforts to streamline the verification process and address fraud concerns, this notice makes changes to the identity confirmation requirements for verification tracking groups V4 and V5 for the 2025-2026 award year. The Statement of Educational Purpose is no longer required for the 2025-2026 award year. The Department has also added two new methods for institutions to use when verifying identity, namely a video call between the student and institutional personnel, and documentation that the student had his or her identity verified by a third party using a method satisfying the National Institute of Standards and Technology (NIST) Identity Assurance Level 2 (NIST IAL2) standard. Additionally, for a confined or incarcerated individual enrolled in an eligible prison education program, the Department will consider their identity to be verified if the individual's identity was verified by an authorized official at the correctional facility where the individual is confined or incarcerated. These acceptable documentation changes for identity verification are in the Supplementary Information chart, under Identity and apply to all students who were selected at any time throughout the 2025-2026 award year.

If the Secretary selects an applicant for verification, the applicant's Institutional Student Information Record (ISIR) includes flags that indicate (1) that the applicant has been selected by the Secretary for verification and (2) the verification tracking group in which the applicant has been placed. The verification tracking group indicates which FAFSA information needs to be verified for the applicant and, if appropriate, for the applicant's parent(s) or spouse. The FAFSA Submission Summary indicates that the applicant's FAFSA information has been selected for verification and directs the applicant to contact the institution for further instructions for completing the verification process.

In accordance with the Fostering Undergraduate Talent by Unlocking Resources for Education (FUTURE) Act, much of the applicant's tax return information, including information from their spouse and/or parents, will come directly from the IRS and will not be viewable by the student and other contributors. Such information that is transferred and not edited will be verified and need no further verification. , and that manual entry may be subject to verification.

The following chart lists, for the 2025-2026 award year, the FAFSA information that an institution and an applicant and, if appropriate, the applicant's parent(s) or spouse may be required to verify under 34 CFR 668.56. The chart also lists the acceptable documentation that must, under § 668.57, be provided to an institution for that information to be verified.

FAFSA information | Acceptable documentation
Income information for tax filers: (a) Adjusted Gross Income (AGI). (b) Income Earned From Work. (c) U.S. Income Tax Paid. (d) Untaxed Portions of IRA Distributions. (e) Untaxed Portions of Pensions. (f) IRA Deductions and Payments. (g) Tax Exempt Interest Income. (h) Education Credits. (i) Foreign Income Exempt from Federal Taxation. | Items a through h, if transferred directly from the IRS and unchanged, do not need to be verified. When information is not transferred from the IRS, and for item i, the following documentation is sufficient for verification: (1) A transcript ¹ obtained at no cost from the IRS or other relevant tax authority of a U.S. territory (Guam, American Samoa, the U.S. Virgin Islands) or commonwealth (Puerto Rico and the Northern Mariana Islands), or a foreign government, that lists 2023 tax account information of the tax filer; or (2) A copy of the income tax return ¹ and the applicable schedules ¹ that were filed with the IRS or other relevant tax authority of a U.S. territory, or a foreign government that lists 2023 tax account information of the tax filer. (3) If item d or e contains a rollover, a signed statement confirming the amount of the rollover in the untaxed pension or IRA distribution. Note that even if d or e are transferred as FTI, rollovers still need to be verified as they are manually entered.
Income information for tax filers with special circumstances: (a) Adjusted Gross Income (AGI). (b) Income Earned from Work. (c) U.S. Income Tax Paid. (d) Untaxed Portions of IRA Distributions. (e) Untaxed Portions of Pensions. (f) IRA Deductions and Payments. (g) Tax Exempt Interest Income. (h) Education Credits. (i) Foreign Income Exempt from Federal Taxation. | (1) For a student, or the parent(s) of a dependent student, who filed a 2023 joint income tax return and whose income is used in the calculation of the applicant's student aid index and who at the time the FAFSA was completed was separated, divorced, widowed, or married to someone other than the individual included on the 2023 joint income tax return— (a) A transcript ¹ obtained from the IRS or other relevant tax authority that lists 2023 tax account information of the tax filer(s); or (b) A copy of the income tax return ¹ and the applicable schedules ¹ that were filed with the IRS or other relevant tax authority that lists 2023 tax account information of the tax filer(s); and (c) A copy of IRS Form W-2 ² for each source of 2023 employment income received or an equivalent document. ² (2) For an individual who is required to file a 2023 IRS income tax return and has been granted a filing extension by the IRS beyond the automatic six-month extension for tax year 2023— (a) A signed statement listing the sources of any 2023 income and the amount of income from each source; (b) A copy of the IRS's approval of an extension beyond the automatic six-month extension for tax year 2023; ³
| (c) A copy of IRS Form W-2 ² for each source of 2023 employment income received or an equivalent document; ² and
| (d) If self-employed, the signed statement must indicate the amount of estimated AGI and U.S. income tax paid for tax year 2023.
| (3) If d or e contains a rollover, a signed statement confirming the amount of the rollover in the untaxed pension or IRA distribution. Note that even if d or e are transferred as FTI, rollovers still need to be verified as they are manually entered.
| Note: An institution may require that, after the income tax return is filed, an individual granted a filing extension beyond the automatic 6-month extension submit tax information by obtaining a transcript ¹ from the IRS, or by submitting a copy of the income tax return ¹ and the applicable schedules ¹ that were filed with the IRS that lists 2023 tax account information. When an institution receives such information, it must be used to reverify the income and tax information reported on the FAFSA.
| (4) For an individual who was the victim of IRS tax-related identity theft—
| • A copy of the signed 2023 income tax return ¹ and applicable schedules ¹ the individual filed with the IRS; and
| • An IRS 4674C letter (a letter from the IRS acknowledging the identity theft) or a statement signed and dated by the tax filer indicating that he or she was a victim of IRS tax-related identity theft and the IRS is aware of it.
| (5) For an individual who filed an amended income tax return with the IRS, a signed copy of the IRS Form 1040X that was filed with the IRS for tax year 2023 or documentation from the IRS that include the change(s) made to the tax filer's 2023 tax information, in addition to one of the following—
| (a) Income and tax information from the IRS on an ISIR record with all tax information from the original tax return;
| (b) A transcript obtained from the IRS that lists 2023 tax account information of the tax filer(s); or
| (c) A signed copy of the 2023 IRS Form 1040 and the applicable schedules that were filed with the IRS.
Income information for non-tax filers: Income Earned from Work | For an individual who has not filed and, under IRS or other relevant tax authority rules (e.g., the Republic of the Marshall Islands, the Republic of Palau, the Federated States of Micronesia, a U.S. territory or commonwealth or a foreign government), is not required to file a 2023 income tax return—
| (1) A signed and dated statement certifying—
| (a) That the individual is not required to file a 2023 income tax return; and
| (b) The sources and amounts of earnings, other income, and resources that supported the individual(s) for the 2023 tax year;
| (2) For individuals without a Social Security number (SSN), Individual Taxpayer Identification Number (ITIN), or Employer Identification Number (EIN), a signed and dated statement certifying that they do not have an SSN, ITIN, or EIN;
| (3) A copy of IRS Form W-2 ² for each source of 2023 employment income received or an equivalent document; ² and
| (4) Except for dependent students, verification of non-filing ⁴ for individuals who would file a return with a relevant tax authority other than the IRS dated on or after October 1, 2024.
| Note: The collection of documentation to verify income earned from work is also used to determine if the applicant (and the applicable spouse or parent) was required to file a U.S. income tax return for the 2023 tax year.
Family Size | Since family size is based on the number of individuals listed and claimed on the IRS tax return, if transferred directly from the IRS and unchanged, family size does not need to be verified. However, when information is not transferred from the IRS, or if the applicant updated their family size when presented with the opportunity to do so on their FAFSA, the following documentation is sufficient for verification:
| A statement signed by the applicant and, if the applicant is a dependent student, by one of the applicant's parents, that lists the name and age of each family member for the 2025-2026 award year and the relationship of that family member to the applicant.
| Note: Verification of family size is not required if—
| • For a dependent student, the family size indicated on the ISIR is two and the parent is single, separated, divorced, or widowed, or the household size indicated on the ISIR is three and the parents are married, remarried or unmarried and living together; or
| • For an independent student, the family size indicated on the ISIR is one and the applicant is single, separated, divorced, or widowed, or the household size indicated on the ISIR is two and the applicant is married or remarried; or
| • The applicant manually updated their family size and the number is the same as the family size derived from data transferred directly from the IRS.
Identity | Note: The Statement of Educational Purpose is no longer required for the 2025-2026 award year.
| (1) An applicant may appear in person and present acceptable identification ⁵ to an institutionally authorized individual to verify the applicant's identity. The institution must maintain an annotated copy of the acceptable identification and documentation, that includes—
| (a) The date the identification was presented; and
| (b) The name of the institutionally authorized individual who reviewed the identification.
| (2) An applicant may also be verified by an entity that is compliant with National Institute of Standards and Technology (NIST) Identity Assurance Level 2 (NIST IAL2), even if the applicant can appear in person— https://pages.nist.gov/800-63-3-Implementation-Resources/63A/ial2remote/. The institution must receive documentation directly from the entity confirming that the student's identity was verified under the NIST standard and the date of the verification. Additional information on this requirement will be provided in the future.
| (3) If an institution determines that an applicant is unable to appear in person, the applicant may:
| (a) Provide the institution with a copy of an acceptable identification presented to a notary and acknowledged in a signed notary statement; or
| (b) Appear on a video call with institutional personnel and present the acceptable identification to an institutionally authorized individual. The video call option will require the institution to maintain a copy (electronic or hardcopy) of the identification documentation that includes the date it was presented and the name of the authorized representative that reviewed and approved the documentation. This can be accomplished through a screenshot of the video call that has legible details of the acceptable identification.
| (4) For a confined or incarcerated individual (as defined in 34 CFR 600.2) enrolled in an eligible prison education program (see 34 CFR Subpart P), the Department will consider their identity to be verified if the individual's identity was verified by an authorized official at the correctional facility where the individual is confined or incarcerated. An institution must retain as documentation a copy of the acceptable identification or paper confirmation (if it is prohibited to make a copy of the individual's identification) that includes—
| (a) The date the identification was presented or the date the verification took place,
| (b) The name of the correctional facility official who confirmed the confined or incarcerated individual's identity; and
| (c) The name of the institutionally authorized individual who performed the verification.
¹ This footnote is applicable whenever an income tax return, the related schedules, or transcript is mentioned in the above chart.
The copy of the 2023 income tax return must include the signature of the tax filer, or one of the filers of a joint income tax return, or the signed, stamped, typed, or printed name and address of the preparer of the income tax return and the preparer's Social Security number, Employer Identification Number, or Preparer Tax Identification Number.
For a tax filer who filed an income tax return other than an IRS form, such as a foreign or Puerto Rican tax form, the institution must use the income information (converted to U.S. dollars) from the lines of that form that correspond most closely to the income information reported on a U.S. income tax return.
An individual who did not retain a copy of his or her 2023 tax account information, and for whom that information cannot be located by the IRS or other relevant tax authority, must submit to the institution—
a. Copies of all IRS Form W-2s for each source of 2023 employment income or equivalent documents; or
b. If the individual is self-employed or filed an income tax return with a government of a U.S. territory or commonwealth or a foreign government, a signed statement certifying the amount of AGI and income taxes paid for tax year 2023; and
c. Documentation from relevant tax authorities other than the IRS that indicates the individual's 2023 tax account information cannot be located; and
d. A signed statement that indicates that the individual did not retain a copy of his or her 2023 tax account information.
² An individual who is required to submit an IRS Form W-2 or an equivalent document but did not maintain a copy should request a duplicate from the employer who issued the original or from the government agency that issued the equivalent document. If the individual is unable to obtain a duplicate W-2 or an equivalent document in a timely manner, the institution may permit that individual to provide a signed statement, in accordance with 34 CFR 668.57(a)(6), that includes—
(a) The amount of income earned from work;
(b) The source of that income; and
(c) The reason why the IRS Form W-2, or an equivalent document, is not available in a timely manner.
³ For an individual who was called up for active duty or for qualifying National Guard duty during a war or other military operation or national emergency, an institution must accept a statement from the individual certifying that he or she has not filed an income tax return or a request for a filing extension because of that service.
⁴ If an individual is unable to obtain verification of non-filing from a relevant tax authority and, based upon the institution's determination, it has no reason to question the student's or family's good-faith effort to obtain the required documentation, the institution may accept a signed statement certifying that the individual attempted to obtain the verification of non-filing from the relevant tax authority and was unable to obtain the required documentation.
⁵ An unexpired, valid government-issued photo identification is one issued by the U.S. government, any of the 50 States, the District of Columbia, the Commonwealth of Puerto Rico, a federally recognized American Indian and Alaska Native Tribe, American Samoa, Guam, the Virgin Islands, the Commonwealth of the Northern Mariana Islands, the Republic of the Marshall Islands, the Federated States of Micronesia, or the Republic of Palau. Acceptable identification includes but is not limited to, a driver's license, non-driver's identification card, other State-issued identification, or U.S. passport.

The individual FAFSA items that an applicant must verify are based upon the Verification Tracking Group to which the applicant is assigned as outlined in the following chart.

Verification tracking flag | Verification tracking group name | FAFSA information required to be verified
V1 | Standard Verification Group | Tax Filers: • Adjusted Gross Income. • Income Earned From Work. • U.S. Income Tax Paid. • Untaxed Portions of IRA Distributions. • Untaxed Portions of Pensions. • IRA Deductions and Payments. • Tax Exempt Interest Income. • Education Tax Credits. • Foreign Income Exempt from Federal Taxation.
|  | Non-Tax Filers:
|  | • Income Earned from Work.
|  | Tax Filers and Non-Tax Filers:
|  | • Family Size.
V2 | Reserved | N/A.
V3 | Reserved | N/A.
V4 | Custom Verification Group | • Identity (the Statement of Educational Purpose is no longer required).
V5 | Aggregate Verification Group | Tax Filers:
|  | • Adjusted Gross Income. • Income Earned From Work. • U.S. Income Tax Paid. • Untaxed Portions of IRA Distributions. • Untaxed Portions of Pensions. • IRA Deductions and Payments. • Tax Exempt Interest Income. • Education Tax Credits. • Foreign Income Exempt from Federal Taxation. Non-Tax Filers: • Income Earned from Work. Tax Filers and Non-Tax Filers: • Family Size. • Identity (the Statement of Educational Purpose is no longer required).
V6 | Reserved | N/A.

Other Sources for Detailed Information

We provide a more detailed discussion on the verification process in the following resources that will be available on the Knowledge Center web page at https://fsapartners.ed.gov/knowledge-center:

• 2025-2026 Application and Verification Guide.

• 2025-2026 FAFSA Specifications Guide: Volume 6—ISIR Guide, Volume 7—Comment Codes.

• 2025-2026 COD Technical Reference.

• Program Integrity Information—Questions and Answers on Verification at www2.ed.gov/policy/highered/reg/hearulemaking/2009/verification.html.

Accessible Format: On request to the program contact person listed under FOR FURTHER INFORMATION CONTACT, individuals with disabilities can obtain this document in an accessible format. The Department will provide the requestor with an accessible format that may include Rich Text Format (RTF) or text format (txt), a thumb drive, an MP3 file, braille, large print, audiotape, or compact disc or other accessible format.

Electronic Access to This Document: The official version of this document is the document published in the Federal Register. You may access the official edition of the Federal Register and the Code of Federal Regulations at www.govinfo.gov. At this site you can view this document, as well as all other documents of this Department published in the Federal Register, in text or Portable Document Format (PDF). To use PDF, you must have Adobe Acrobat Reader, which is available free at the site.

You may also access documents of the Department published in the Federal Register by using the article search feature at www.federalregister.gov. Specifically, through the advanced search feature at this site, you can limit your search to documents published by the Department.

Program Authority: 20 U.S.C. 1070a, 1070b-1070b-4, 1087a-1087j, and 1087-51 through 1087-58.

Signing Authority: This document of the U.S. Department of Education was signed on July 17, 2025, by Christopher J. McCaghren, ED.D, Acting Assistant Secretary Office of Postsecondary Education. That document with the original signature and date is maintained by the U.S. Department of Education. For administrative purposes only, and in compliance with requirements of the Office of the Federal Register, the undersigned has been authorized to sign the document in electronic format for publication, as an official document of the U.S. Department of Education. This administrative process in no way alters the legal effect of this document upon publication in the Federal Register.

Tracey St. Pierre,
Director, Office of the Executive Secretariat, Office of the Secretary, U.S. Department of Education.

[FR Doc. 2025-13740 Filed 7-21-25; 8:45 am]

BILLING CODE 4000-01-P